DEPARTMENT OF COMMERCE

International Trade Administration

[A-570-929]

Small Diameter Graphite Electrodes From the People's Republic of China: Final Results of Antidumping Duty Administrative Review; 2016-2017

AGENCY: Enforcement and Compliance, International Trade Administration, Department of Commerce.

SUMMARY: The Department of Commerce (Commerce) determines that Fushun Jinly Petrochemical Carbon Co., Ltd. (Fushun Jinly) did not make sales of small diameter graphite electrodes from the People's Republic of China (China) at less than normal value during the period of review (POR) February 1, 2016, through January 31, 2017.

DATES: Applicable July 16, 2018.

FOR FURTHER INFORMATION CONTACT: Dennis McClure or John Anwesen, AD/CVD Operations, Office VIII, Enforcement and Compliance, International Trade Administration, Department of Commerce, 1401 Constitution Avenue NW, Washington, DC 20230; telephone: (202) 482-5973, or (202) 482-0131, respectively.

SUPPLEMENTARY INFORMATION:

Background

Commerce published the Preliminary Results ¹ on March 12, 2018. For a discussion of events subsequent to the Preliminary Results, see Commerce's Issues and Decision Memorandum.²

¹ See Small Diameter Graphite Electrodes from the People's Republic of China: Preliminary Results of Antidumping Duty Administrative Review and Preliminary Determination of No Shipments; 2016-2017, 83 FR 10658 (March 12, 2018) (Preliminary Results), and accompanying Decision Memorandum.

² See Memorandum, “Issues and Decision Memorandum for the Administrative Review of the Antidumping Duty Order on Small Diameter Graphite Electrodes from the People's Republic of China; 2016-2017,” dated concurrently with, and hereby adopted by, this notice (Issues and Decision Memorandum).

Commerce has exercised its discretion to toll all deadlines affected by the closure of the Federal Government from January 20 through 22, 2018. The revised deadline for the final determination of this review is now July 10, 2018.³

³ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010, 3801.10, and 8545.11.0020. While the HTSUS subheadings are provided for convenience and customs purposes, the written description of the scope of the order is dispositive. A full description of the scope of the order is contained in the Issues and Decision Memorandum.

Analysis of Comments Received

In the Issues and Decision Memorandum, we address all issues raised in interested parties' case and rebuttal briefs. In the Appendix to this notice, we provide a list of the issues raised by parties. The Issues and Decision Memorandum is a public document and is on file in the Central Records Unit (CRU), Room B8024 of the main Department of Commerce building, as well as electronically via Enforcement and Compliance's Antidumping and Countervailing Duty Centralized Electronic Service System (ACCESS). ACCESS is available to registered users at https://access.trade.gov and it is available to all parties in the CRU. In addition, parties can directly access a complete version of the Issues and Decision Memorandum on the internet at http://enforcement.trade.gov/frn/index.html. The signed Issues and Decision Memorandum and the electronic version of the Issues and Decision Memorandum are identical in content.

Changes Since the Preliminary Results

Based on our review of the record and comments received from interested parties regarding our Preliminary Results, we did not make any revisions to the margin calculations for Fushun Jinly.

Final Determination of No Shipments

In the Preliminary Results, we preliminarily determined that Fangda Group ⁴ and Xuzhou Jianglong Carbon Products Co., Ltd. (Xuzhou Jianglong) had no shipments of the subject merchandise during the POR.⁵ We received no information to contradict this determination. Therefore, we continue to determine that Fangda Group and Xuzhou Jianglong had no shipments of subject merchandise during the POR, and will issue appropriate liquidation instructions that are consistent with our “automatic assessment” clarification, for these final results.⁶

⁴ The Fangda Group consists of Beijing Fangda Carbon Tech Co., Ltd., Chengdu Rongguang Carbon Co., Ltd., Fangda Carbon New Material Co., Ltd., Fushun Carbon Co., Ltd., and Hefei Carbon Co., Ltd. In a prior administrative review Commerce determined, pursuant to sections 771(33)(F) and (G) of the Tariff Act of 1930, as amended (the Act), that these companies were affiliated. Additionally, Commerce determined, pursuant to 19 CFR 351.401(f) that it was appropriate to treat these companies as a single entity. See Small Diameter Graphite Electrodes from the People's Republic of China: Preliminary Determination of Sales at Less Than Fair Value, Postponement of Final Determination, and Affirmative Preliminary Determination of Critical Circumstances, in Part, 73 FR 49408, 49411-12 (August 21, 2008), unchanged in Final Determination of Sales at Less Than Fair Value and Affirmative Determination of Critical Circumstances: Small Diameter Graphite Electrodes from the People's Republic of China, 74 FR 2049 (January 14, 2009). Because there is no evidence on the record of this review that would require us to reevaluate this determination, we are continuing to treat these companies as part of the Fangda Group.

⁵ See Preliminary Results at 10658-59.

⁶ See Non-Market Economy Antidumping Proceedings: Assessment of Antidumping Duties, 76 FR 65694 (October 4, 2011) (Assessment Practice Refinement).

Final Results of the Review

Commerce determines that the following weighted-average dumping margin exists for Fushun Jinly for the POR from February 1, 2016, through January 31, 2017:

Exporter | Weighted- average dumping margin (percent)
Fushun Jinly Petrochemical Carbon Co., Ltd ⁷ | 0.00

Because no party requested a review of the China-wide entity, and Commerce no longer considers the China-wide entity as an exporter conditionally subject to administrative reviews,⁸ we did not conduct a review of the China-wide entity. Thus, the weighted-average dumping margin for the China-wide entity (i.e., 159.64 percent) ⁹ is not subject to change as a result of this review.

⁷ Also known as Fushun Jinli Petrochemical Carbon Co., Ltd. See Petitioner's February 28, 2017 Request for Initiation of Antidumping Administrative Review at Attachment 1, p.11; see also Small Diameter Graphite Electrodes from the People's Republic of China: Preliminary Results of the First Administrative Review of the Antidumping Duty Order; Partial Rescission of Administrative Review; and Intent to Rescind Administrative Review, in Part, 76 FR 12324 (March 7, 2011) at n.7.

⁸ See Antidumping Proceedings: Announcement of Change in Department Practice for Respondent Selection in Antidumping Duty Proceedings and Conditional Review of the Nonmarket Economy Entity in NME Antidumping Duty Proceedings, 78 FR 65963, 65969-70 (November 4, 2013).

⁹ See, Small Diameter Graphite Electrodes from the People's Republic of China: Final Results of Antidumping Duty Administrative Review and Final Determination of No Shipments; 2015-2016, 82 FR 10876, 10877 (February 16, 2017).

Assessment Rates

Commerce determined, and U.S. Customs and Border Protection (CBP) shall assess, antidumping duties on all appropriate entries of subject merchandise in accordance with section 751(a)(2)(C) of the Act and 19 CFR 351.212(b). We intend to issue assessment instructions to CBP 15 days after the publication date of these final results of review. For entries of subject merchandise during the POR produced by Fushun Jinly, we will instruct the CBP to liquidate the appropriate entries without regard to antidumping duties because Fushun Jinly's weighted-average dumping margin in these final results is zero.¹⁰

¹⁰ See 19 CFR 351.106(c)(2).

Consistent with Commerce's assessment practice in non-market economy cases, for sales that were not reported in the U.S. sales data submitted by companies individually examined during this review, we will instruct CBP to liquidate entries associated with those sales at the rate for the China-wide entity. Furthermore, where we found that an exporter under review had no shipments of the subject merchandise, any suspended entries that entered under that exporter's case number (i.e., at that exporter's cash deposit rate) will be liquidated at the rate for the China-wide entity.¹¹

¹¹ For a full discussion of this practice, see Assessment Practice Refinement, 76 FR at 65694.

Cash Deposit Requirements

The following deposit requirements will be effective upon publication of the final results of this administrative review for all shipments of the subject merchandise from China entered, or withdrawn from warehouse, for consumption on or after the publication date, as provided by section 751(a)(2)(C) of the Act: (1) No cash deposit will be required for subject merchandise exported by Fushun Jinly; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 159.64 percent); and (4) for all non-Chinese exporters of subject merchandise which have not received their own separate rate, the cash deposit rate will be the rate applicable to the Chinese exporter(s) that supplied that non-Chinese exporter. These deposit requirements, when imposed, shall remain in effect until further notice.

Disclosure

We intend to disclose the calculations performed within five days of the date of publication of this notice to parties in this proceeding in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act.

Dated: July 10, 2018.
Gary Taverman,
Deputy Assistant Secretary for Antidumping and Countervailing Duty Operations, performing the non-exclusive functions and duties of the Assistant Secretary for Enforcement and Compliance.

Appendix

Issues and Decision Memorandum

Summary

Background

Scope of the Order

Changes Since the Preliminary Results

Discussion of the Issues

Comment 1: U.S. Sales Process and Whether to Apply Total Adverse Facts Available (AFA)

Comment 2: Reliability of Factors of Production (FOP) and Sales Databases and Whether to Apply Total AFA

Recommendation

[FR Doc. 2018-15114 Filed 7-13-18; 8:45 am]

BILLING CODE 3510-DS-P